DEPARTMENT OF ENERGY

Federal Energy Regulatory Commission

[Docket No. EC01-45-000, et al.]

P&L Coal Holdings Corporation, et al.; Electric Rate and Corporate Regulation Filings December 27, 2000.

Take notice that the following filings have been made with the Commission:

1. P&L Coal Holdings Corporation

[Docket No. EC01-45-000]

Take notice that on December 20, 2000, P&L Coal Holdings Corporation filed an application pursuant to section 203 of the Federal Power Act for an order authorizing the proposed sale of equity interests in CL Power Sales One, L.L.C., CL Power Sales Two, L.L.C., CL Power Sales Six, L.L.C., CL Power Sales Seven, L.L.C., CL Power Sales Eight, L.L.C., CL Power Sales Nine, L.L.C., and CL Power Sales Ten, L.L.C. to GATX Capital Corporation or a subsidiary thereof. The proposed transaction involves the sale of equity interests in power marketers subject to the Commission's jurisdiction.

Comment date: January 11, 2001, in accordance with Standard Paragraph E at the end of this notice.

2. Virginia Electric and Power Company

[Docket No. EC01-46-0000]

Take notice that on December 15, 2000, Virginia Electric and Power Company (Applicant) tendered for filing an application pursuant to section 203 of the Federal Power Act for the purchase of certain jurisdictional transmission facilities appurtenant to the purchase of qualifying facilities from Westpower-Franklin, L.P., LG&E Southampton, L.P., LG&E Power 11 Incorporated, Westpower—Altavista, L.P., LG&E Altavista, L.P., LG&E Power 12 Incorporated, Westpower—Hopewell, L.P., LG&E Hopewell, L.P., and LG&E Power 13 Incorporated. Applicant states that copies of the application have been served upon the utility commissions of the states of Virginia and North Carolina and Applicant's wholesale requirements customers.

Comment date: January 8, 2001, in accordance with Standard Paragraph E at the end of this notice.

3. The Montana Power Company NorthWestern Corporation

[Docket No. EC01-47-000]

Take notice that on December 20, 2000, The Montana Power Company (Montana Power) and NorthWestern Corporation (NorthWestern), tendered for filing with the Federal Energy Regulatory Commission an application pursuant to section 203 of the Federal Power Act for authorization of a disposition of jurisdictional facilities whereby NorthWestern will purchase Montana Power's utility business in exchange for cash and the assumption of debt. The proposed transaction involves the purchase of all of Montana Power's regulated electric and natural gas utility facilities in Montana, as well as certain subsidiaries of Montana Power.

Comment date: January 11, 2001, in accordance with Standard Paragraph E at the end of this notice.

4. Hafslund Energy Trading, LLC

[Docket No. EC01-48-000]

Take notice that on December 21, 2000, Hafslund Energy Trading, LLC (Hafslund), tendered for filing an application pursuant to section 203 of the Federal Power Act for authorization for the disposition of certain of its wholesale power agreements and associated books and records to Merrill Lynch Capital Services, Inc.

Comment date: January 12, 2001, in accordance with Standard Paragraph E at the end of this notice.

5. Duke Energy Hinds, LLC

[Docket No. EG01-65-000]

Take notice that on December 15, 2000, Duke Energy Hinds, LLC (Duke Hinds), tendered for filing an application with the Federal Energy Regulatory Commission (the Commission) for determination of exempt wholesale generator status pursuant to Section 32 of the Public Utility Holding Company Act of 1935, as amended and Part 365 of the Commission's Regulations.

Duke Hinds is a Delaware limited liability company that will be engaged directly and exclusively in the business of owing and operating all or part of one or more eligible facilities to be located in Jackson, Mississippi. The eligible facilities will consist of an approximately 500 MW natural gas-fired, combined cycle electric generation plant and related interconnection facilities. The output of the eligible facilities will be sold at wholesale.

Comment date: January 11, 2001, in accordance with Standard Paragraph E at the end of this notice. The Commission will limit its consideration of comments to those that concern the adequacy or accuracy of the application.

6. PEI Power II, LLC

[Docket No. EG01-79-000]

Take notice that on December 20, 2000, PEI Power II, LLC, 2 Court Street, Binghamton, New York 13901, tendered for filing with the Federal Energy Regulatory Commission an application for determination of exempt wholesale generator status pursuant to Part 365 of the Commission's Regulations.

The applicant is a limited liability company that will be engaged directly and exclusively in the business of owning or operating, or both owning and operating, an eligible facility (the Facility) in Archbald, Pennsylvania. The Facility will consist of a 45 MW generating unit fueled by natural gas and interconnection facilities necessary to interconnect the Facility to the local transmission grid.

Comment date: January 11, 2001, in accordance with Standard Paragraph E at the end of this notice. The Commission will limit its consideration of comments to those that concern the adequacy or accuracy of the application.

7. Dynegy Power Marketing, Inc., El Segundo Power, LLC., Long Beach Generation LLC, Cabrillo Power I LLC, Cabrillo Power II LLC v. California Independent System Operator Corporation

[Docket No. EL01-23-000]

Take notice that the above listed entities (Complainant) on December 22, 2000, tendered for filing a complaint under the Commission's fast-track procedures against the California Independent System Operator Corporation (ISO). Complainant has requested that the Commission direct the ISO to cease and desist making Out-of-Market (OOM) dispatch orders on its units in non-emergency situations, require the ISO to negotiate compensatory rates for OOM dispatch orders, file for a third payment option that generators subject to a Participating Generator Agreement could elect as compensation for OOM dispatch orders, and other related relief.

Comment date: January 11, 2001, in accordance with Standard Paragraph E at the end of this notice. Answers to the compliant shall also be due on or before January 11, 2001.

8. The Montana Power Company

[Docket No. ER97-449-001]

Take notice that on December 20, 2000, The Montana Power Company (Montana Power) tendered for filing a notice of change of status and a revised statement of policy and standards of conduct to reflect a planned transaction pursuant to which NorthWestern Corporation will purchase the utility business of Montana Power.

Comment date: January 11, 2001, in accordance with Standard Paragraph E at the end of this notice.

9. American Electric Power Service Corporation

[Docket No. ER01-721-000]

Take notice that on December 20, 2000, the American Electric Power Service Corporation (AEPSC), tendered for filing executed Interconnection and Operation Agreement between Indiana Michigan Power Company and PSEG Lawrenceburg Energy Company, LLC. The agreement is pursuant to the AEP Companies' Open Access Transmission Service Tariff (OATT) that has been designated as the Operating Companies of the American Electric Power System FERC Electric Tariff Revised Volume No. 6, effective June 15, 2000.

AEP requests an effective date of February 1, 2001.

A copy of the filing was served upon the Indiana Utility Regulatory Commission and the Michigan Public Service Commission.

Comment date: January 11, 2001, in accordance with Standard Paragraph E at the end of this notice.

10. UtiliCorp United, Inc.

[Docket No. ER01-723-000]

Take notice that on December 21, 2000, UtiliCorp United Inc. (UtiliCorp), tendered for filing amendments to the open access transmission tariffs for its Missouri Public Service, WestPlains Energy-Kansas, WestPlains Energy-Colorado and St. Joseph Power & Light operating divisions. The amendments ensure that transmission customers taking service over more than one UtiliCorp division do not pay UtiliCorp multiple transmission charges for such service.

Comment date: January 12, 2001, in accordance with Standard Paragraph E at the end of this notice.

11. Illinois Power Company

[Docket No. ER01-722-000]

Take notice that on December 20, 2000, Illinois Power Company (Illinois Power), 500 South 27th Street, Decatur, Illinois 65251-2200, filed the following service agreements entered into pursuant to its Open Access Transmission Tariff: Service Agreement for Non-Firm Point-To-Point Transmission Service with Madison Gas and Electric Company (MGE), dated November 21, 2000; Service Agreement for Firm Short-Term Point-To-Point Transmission Service with MGE, dated November 21, 2000; Service Agreement for Non-Firm Point-To-Point Transmission Service with Southwestern Public Service Company (SWPS), dated November 22, 2000; Service Agreement for Firm Short-Term Point-To-Point Transmission Service with SWPS, dated November 22, 2000; and four (4) Service Agreements for Firm Long-Term Point-To-Point Transmission Service with Dynegy Power Marketing, Inc. (DPM), dated October 17, 2000.

Illinois Power requests effective dates of November 21, 2000 for the Agreements with MG&E; November 22, 2000 for the Agreements with SWPS; and January 1, 2001 for the Agreements with DPM. Accordingly, Illinois Power seeks a waiver of the Commission's notice requirement.

Illinois Power has served a copy of the filing on MGE, SWPS and DPM.

Comment date: January 11, 2001, in accordance with Standard Paragraph E at the end of this notice.

12. Central Illinois Light Company; Cinergy Corp.; Hoosier Energy R.E.C., Inc.; Southern Illinois Power Cooperative; Southern Indiana Gas & Electric Company; and Wabash Valley Power Association, Inc.

[Docket No. ER01-731-000]

Take notice that on December 20, 2000, Central Illinois Light Company, Cinergy Corp., Hoosier Energy R.E.C., Inc., Southern Illinois Power Cooperative, Southern Indiana Gas & Electric Company and Wabash Valley Power Association, Inc. (Designated Transmission Owners) tendered for filing: (1) Their notice of withdrawal, and request for authorization from the Federal Energy Regulatory Commission (Commission) for their withdrawal, from the Midwest Independent Transmission System Operator, Inc. (Midwest ISO), effective under the Federal Power Act as of the date upon which the Commission first allows the withdrawal from the Midwest ISO by Illinois Power Company, Commonwealth Edison Company and/or Ameren to take effect; and (2) their request that the Commission authorize a Designated Transmission Owner having Commission jurisdictional rates and charges to recover, through its Commission jurisdictional transmission service rates and charges, the costs incurred by the Designated Transmission Owner as a result of its withdrawal from the Midwest ISO.

Copies of the filing were served upon the Midwest ISO, Illinois Power Company, Commonwealth Edison Company, Ameren, the Indiana Utility Regulatory Commission, the Illinois Commerce Commission, the Public Utilities Commission of Ohio, the Kentucky Public Service Commission, the Public Service Commission of Wisconsin, the Michigan Public Service Commission and the Missouri Public Service Commission.

Comment date: January 11, 2001, in accordance with Standard Paragraph E at the end of this notice.

Standard Paragraph

E. Any person desiring to be heard or to protest such filing should file a motion to intervene or protest with the Federal Energy Regulatory Commission, 888 First Street, NE., Washington, DC 20426, in accordance with rules 211 and 214 of the Commission's rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

Linwood A. Watson, Jr.,

Acting Secretary.

[FR Doc. 01-296 Filed 1-4-01; 8:45 am]

BILLING CODE 6717-01-U